DEPARTMENT OF THE INTERIOR

Fish and Wildlife Service

Aquatic Nuisance Species Task Force Gulf of Mexico Regional Panel Meeting

AGENCY: Fish and Wildlife Service, Interior.

ACTION: Notice of meeting.

SUMMARY: This notice announces a meeting of the Aquatic Nuisance Species (ANS) Task Force Gulf of Mexico Regional Panel. The meeting topics are identified in the SUPPLEMENTARY INFORMATION.

DATES: The Gulf of Mexico Regional Panel will meet from 1 p.m. to 5 p.m. on Monday, October 20, 2003, and 9 a.m. to 5 p.m., on Tuesday, October 21, 2003. The Education and Outreach Work Group and Research and Development work Group of the Gulf of Mexico Regional Panel will meet from 8 a.m. to noon, on Wednesday, October 22, 2003.

ADDRESSES: The Gulf of Mexico Regional Panel meeting will be held at the Maison Dupuy, 1001 Toulouse Street, New Orleans, Louisiana. Phone 800-535-9177.

FOR FURTHER INFORMATION CONTACT: Ron Lukens, Assistant Director, Gulf States Marine Fisheries Commission at (228) 875-5912; or Sharon Gross, Executive Secretary, Aquatic Nuisance Species Task Force at (703) 358-2308.

SUPPLEMENTARY INFORMATION: Pursuant to section 10(a)(2) 9of the Federal Advisory Committee Act (5 U.S.C. App. I), this notice announces meetings of the Aquatic Nuisance Species Task Force Gulf of Mexico Regional Panel. The Task Force was established by the Nonindigenous Aquatic Nuisance Prevention and Control Act of 1990.

The Gulf of Mexico Regional Panel was established under the auspices of the ANS Task Force in 2000 with administration and coordination provided by the Gulf States Marine Fisheries Commission. The purpose of the Panel is to advise and make recommendations to the Aquatic Nuisance Species Task Force on issues relating to the Gulf of Mexico region of the United States that includes five Gulf States: Alabama, Florida, Louisiana, Mississippi, and Texas. The Gulf of Mexico Regional Panel will discuss several topics at this meeting including: 2004 grant agreement; Panel operating procedures; invasive species issues in Mexico; an update from Panel working groups; updates on the development of Louisiana, Mississippi, Texas, and Florida ANS management plans; status of Caulerpa monitoring and detection in Florida, and water spinach in Texas; a discussion on the Mobile Bay Rapid Assessment project; a discussion on the need for developing a network of taxonomists; status and discussion of national legislation regarding aquatic invasive species, such as NISA re-authorization and NISC; and a discussion of the Sea grant line item in NOAA budget.

Minutes of the meeting will be maintained by the Executive Secretary, Aquatic Nuisance Species Task Force, Suite 810, 4401 North Fairfax Drive, Arlington, Virginia 22203-1622, and will be available for public inspection during regular business hours, Monday through Friday.

Dated: October 1, 2003.
Mamie A. Parker,
Co-Chair, Aquatic Nuisance Species Task Force, Assistant Director—Fisheries & Habitat Conservation.

[FR Doc. 03-25467 Filed 10-7-03; 8:45 am]

BILLING CODE 4310-55-M